INTERNATIONAL TRADE COMMISSION

[USITC SE-15-032]

Government in the Sunshine Act Meeting Notice; Change of Time to Government in the Sunshine Meeting

AGENCY HOLDING THE MEETING: United States International Trade Commission.

DATE: September 24, 2015.

ORIGINAL TIME: 9:00 a.m.

NEW TIME: 11:00 a.m.

PLACE: Room 101, 500 E Street SW., Washington, DC 20436, Telephone: (202) 205-2000.

STATUS: Open to the public.

In accordance with 19 CFR 201.35(d)(1), the Commission hereby gives notice that the Commission has determined to change the time of the meeting of September 24, 2015, from 9:00 a.m. to 11:00 a.m.

In accordance with Commission policy, subject matter listed above, not disposed of at the scheduled meeting, may be carried over to the agenda of the following meeting. Earlier notification of this change was not possible.

By orderof the Commission.
Issued: September 18, 2015.
William R. Bishop,
Supervisory Hearings and Information Officer.

[FR Doc. 2015-24170 Filed 9-18-15; 4:15 pm]

BILLING CODE 7020-02-P